NUCLEAR REGULATORY COMMISSION

[Docket No. 40-9068; NRC-2008-0391]

Notice of Availability of Environmental Assessment and Finding of No Significant Impact for an Exemption to the Part 40 Commencement of Construction Requirements, Lost Creek ISR, LLC, Sweetwater County, WY

AGENCY: Nuclear Regulatory Commission.

ACTION: Notice of availability.

FOR FURTHER INFORMATION CONTACT: Tanya Palmateer Oxenberg, Ph.D., Project Manager, Uranium Recovery Licensing Branch, Division of Waste Management and Environmental Protection, Office of Federal and State Materials and Environmental Management Programs, U.S. Nuclear Regulatory Commission, Washington, DC 20555-0001. Telephone: (301) 415-6142; fax number: (301) 415-5369; e-mail: tanya.oxenberg@nrc.gov.

SUPPLEMENTARY INFORMATION:

I. Introduction

By letter dated July 2, 2009, Lost Creek ISR, LLC (the Applicant) submitted a request to the U.S. Nuclear Regulatory Commission (NRC) seeking an exemption from the “commencement of construction” provisions of 10 Code of Federal Regulations (CFR) 40.32(e) for certain site preparation activities. As discussed in its technical evaluation report (TER), the NRC is granting this request, in part. The NRC is authorizing the Applicant to undertake certain site preparation activities for its proposed Lost Creek in situ recovery (ISR) project in Sweetwater County, Wyoming, before a decision is made on whether to grant the Applicant's pending request for a uranium milling operating license. Granting the July 2, 2009, exemption request does not mean that the NRC has decided to issue an operating license, and the Applicant would be undertaking these site preparation activities with the risk that its pending NRC license application may later be denied. The NRC has prepared an Environmental Assessment (EA) in support of the exemption being granted in accordance with the requirements of 10 CFR 51.21. A draft of this EA was published in the Federal Register for public comment on November 9, 2009 (74 FR 57712). As indicated below in Section IV, the final EA is available for review, as is the TER. The final EA is summarized below.

II. EA Summary

The exemption being granted authorizes site preparation activities to be undertaken at the Applicant's proposed Lost Creek ISR site. Specifically, the exemption will allow the Applicant to conduct activities that do not have a nexus to radiological health and safety, and thus do not require an NRC license. As discussed in the TER, the NRC authorizes site preparation activities to be undertaken, except for the following:

1. Construction of the processing plant. The processing plant will concentrate, precipitate, and dry yellowcake, and its construction has a nexus to radiological health and safety, due to the intended presence and handling there of radioactive materials. Specific aspects of processing plant construction are thus subject to review and approval by NRC staff. Therefore, the construction of the processing plant is not approved as an exempted activity.

2. Drill and case up to four deep wells. The installation of these proposed wells has a nexus to radiological health and safety because the Applicant plans to use them to dispose of liquid 11e.(2) byproduct material. Therefore, drilling and casing deep disposal wells is not approved as an exempted activity.

The requested site preparation activities approved under this exemption include the following:

1. Leveling and surfacing of the area around the plant and maintenance building.

2. Constructing the maintenance building.

3. Installing household septic systems for the plant and maintenance buildings.

4. Installing fence around the plant and maintenance building area.

5. Upgrading existing road access from the west to the plant.

6. Upgrading existing road access from the east to the plant.

7. Installing fence for early wellfield area.

8. Installing power line to the plant and maintenance buildings and drillers shed.

9. Constructing a drillers shed and staging area.

The NRC staff prepared its EA pursuant to 10 CFR 51.21, which states, “[a]ll licensing and regulatory actions subject to this subpart require an environmental assessment * * *” The only two exceptions to this rule are those actions requiring environmental impact statements, and those that are categorically excluded or identified as otherwise not requiring environmental review pursuant to 10 CFR 51.22. Exemptions are not currently covered by any categorical exclusion, and, therefore, an EA is required for this action.

The impacts of activities allowed by the exemption being granted are not evaluated in the EA. However, the staff conditioned the exemption approval so as to protect endangered species and cultural and historic resources from the effects of site preparation activities. The impacts of all site preparation activities will be evaluated as direct impacts in the supplemental environmental impact statement (SEIS) being prepared for this site.

III. Finding of No Significant Impact

On the basis of the EA, the NRC finds that there are no significant environmental impacts from the proposed action, and that preparation of an environmental impact statement regarding the exemption is not warranted. Accordingly, the NRC has determined that a Finding of No Significant Impact is appropriate.

IV. Further Information

Documents related to this action, including the application for exemption and supporting documentation, are available electronically at the NRC's Electronic Reading Room at http://www.nrc.gov/reading-rm/adams.html. From this site, you can access the NRC's Agencywide Documents Access and Management System (ADAMS), which provides text and image files of NRC's public documents. The ADAMS accession numbers for the documents related to this notice are:

Document title | Date | Accession No.
Lost Creek ISR, LLC, Application for a Source Materials License | October 27, 2007 | ML073190539
Lost Creek ISR, LLC, Resubmitted Application for a Source Materials License | March 20, 2008 | ML081060525
Lost Creek Project Exemption Request | July 2, 2009 | ML091940438
Request for Exemption From 10 CFR Part 40.32(e), Lost Creek ISR, LLC, Lost Creek In Situ Recovery Facility, Sweetwater County, Wyoming | July 28, 2009 | ML092090186
Letter from Bureau of Land Management in Rawlins, WY, Re: Review of Draft EA for Proposed Lost Creek ISR, LLC Exemption to Commencement of Construction Requirements in 10 CFR 40.32(e) | October 28, 2009 | ML093090467
Response from Wyoming SHPO Re: Lost Creek ISR Request for Exemption from Commencement of Construction Requirements | October 30, 2009 | ML093170313
Federal Register Notice Re: Notice of Availability of Draft Environmental Assessment and Opportunity to Provide Comments for Exemption Request for Lost Creek ISR, LLC, Sweetwater County, WY | November 2, 2009 | ML092890567
Notice of Availability of Draft Environmental Assessment and Opportunity to Provide Comments for Exemption Request for Lost Creek ISR, LLC, Sweetwater County, WY | November 9, 2009 | ML093220010
Comment (3) of J. W. Cash on Behalf of Lost Creek ISR, LLC on NRC Notice of Availability of Draft Environment Assessment and Opportunity to Provide Comments for Exemption Request (Issued 11/9/2009) | December 8, 2009 | ML093510015
E-mail Comments from Wyoming Outdoor Council on Lost Creek ISR | December 9, 2009 | ML093440560
Letter from Wyoming SHPO Re: Lost Creek ISR Notification of an Exemption from the Commencement of Construction Requirements in 10 CFR 40.32(e) | December 10, 2009 | ML093440852
Press Release-09-197: NRC Seeks Public Comment on Draft Environmental Reports for Three Proposed Uranium Recovery Facilities | December 10, 2009 | ML093441307
S. Cohen Email Re: Lost Creek ISR EA Comments | December 18, 2009 | ML093560625
Lost Creek ISR, LLC, Exemption Request, Final Technical Evaluation Report | March 25, 2010 | ML093350365
Lost Creek ISR, LLC Exemption Request, Final Environmental Assessment | March 25, 2010 | ML093350677

If you do not have access to ADAMS, or if there are problems in accessing the documents located in ADAMS, contact the NRC's Public Document Room (PDR) Reference staff at 1-800-397-4209, 301-415-4737, or by e-mail to pdr@nrc.gov.

These documents may also be viewed electronically on the public computers located at the NRC's PDR, O 1 F21, One White Flint North, 11555 Rockville Pike, Rockville, MD 20852. The PDR reproduction contractor will copy documents for a fee.

Dated at Rockville, Maryland this 25th day of March 2010.
For the U.S. Nuclear Regulatory Commission.
Keith I. McConnell,
Deputy Director, Decommissioning and Uranium Recovery, Licensing Directorate, Division of Waste Management and Environmental Protection, Office of Federal and State Materials and Environmental Management Programs.

[FR Doc. 2010-7604 Filed 4-2-10; 8:45 am]

BILLING CODE 7590-01-P